DEPARTMENT OF TRANSPORTATION

Federal Highway Administration

[Docket No. FHWA-2015-0008]

Manual for Assessing Safety Hardware (MASH) Transition

AGENCY: Federal Highway Administration (FHWA), Department of Transportation (DOT).

ACTION: Notice; request for comment.

SUMMARY: In issuing Federal-aid eligibility letters for roadside safety hardware, the Federal Highway Administration (FHWA) currently makes determinations of continued eligibility for modifications to devices tested to the National Cooperative Highway Research Program Report 350 (NCHRP 350). In an effort to facilitate the implementation of the Manual for Assessing Safety Hardware (MASH), FHWA intends to discontinue issuing eligibility letters for requests received after December 31, 2015, for modified NCHRP 350-tested devices that do not involve full scale crash testing to the MASH. Modifications to NCHRP 350-tested devices that have, in the past, been based on engineering analysis or finite element modeling will no longer receive FHWA eligibility letters. Effective January 1, 2016, all changes to NCHRP 350-tested devices will require testing under MASH in order to receive a Federal-aid eligibility letter from FHWA.

DATES: Data and information must be submitted to FHWA on or before June 18, 2015.

ADDRESSES: Mail or hand deliver data and information to the U.S. Department of Transportation, Dockets Management Facility, Room W12-140, 1200 New Jersey Avenue SE., Washington, DC 20590, or fax comments to (202) 493-2251. Alternatively, you may submit or retrieve information online through the Federal eRulemaking portal at http://www.regulations.gov. The Web site is available 24 hours each day, 365 days each year. Electronic submission and retrieval help and guidelines are available under the help section of the Web site. An electronic copy of this document may also be downloaded from the Government Printing Office's Web site at: http://www.gpoaccess.gov and the Office of the Federal Register's Web site at: http://www.archives.gov/federal_register. Please note that the Federal eRulemaking portal is unable to receive videos or any document larger than 10MB. If you would like to submit a video or a document that is 10MB or larger, please directly contact one of the individuals identified in this notice. All data and information must include the docket number that appears in the heading of this document. All data and information received will be available for examination and copying at the above address from 9 a.m. to 5 p.m., e.t., Monday through Friday, except Federal holidays. Those desiring notification of receipt of data and information must include a self-addressed, stamped postcard or you may print the acknowledgment page that appears after submitting comments electronically. Anyone is able to search the electronic form of all information in any one of our dockets by the name of the individual submitting the information (or signing the information, if submitted on behalf of an association, business, or labor union). The DOT solicits comments from the public to better inform its activities. The DOT posts these comments, without edit, including any personal information the commenter provides, to www.regulations.gov, as described in the system of records notice (DOT/ALL-14 FDMS), which can be reviewed at www.dot.gov/privacy.

FOR FURTHER INFORMATION CONTACT: Michael Griffith, Office of Safety, 202-366-9469, mike.griffith@dot.gov, Federal Highway Administration, 1200 New Jersey Avenue SE., Washington, DC 20590. For legal questions, please contact Jennifer Mayo, Assistant Chief Counsel, FHWA Office of the Chief Counsel, (202) 366-1523, or via email at jennifer.mayo@dot.gov, Federal Highway Administration, 1200 New Jersey Avenue SE., Washington, DC 20590.

SUPPLEMENTARY INFORMATION:

Background

Guardrails, guardrail end terminals, and other roadside safety hardware are tested to criteria established by the American Association of State Highway and Transportation Officials (AASHTO) through its committee structure in which FHWA participates. The States are guided by the AASHTO Roadside Design Guide (RDG) in their decisions regarding what roadside safety hardware to install on their roadways. In order for a State to receive FHWA reimbursement for roadside safety hardware, the hardware must be crashworthy, meaning that it meets the testing and evaluation guidelines in effect at the time that hardware was developed.

Roadside safety hardware guidelines and testing criteria have evolved over the last several decades with changes in the vehicle fleet and the emergence of new hardware designs. From 1981 until 1993, NCHRP 230 guidelines were used. From 1993 until 2011, NCHRP 350 guidelines were used. The MASH was published in 2009 and since January 1, 2011, all new or significantly changed devices must meet the MASH criteria.

Not unlike other industries, each successive version of guidelines is meant to encourage manufacturers to advance the state of roadside safety hardware and to develop devices that work with a changing vehicle fleet under a wider range of conditions. Because of the extensive development and testing required, it typically takes many years after roadside safety hardware guidelines are established for products meeting those guidelines to be widely available on the market. Accordingly, when AASHTO adopted MASH, it did not intend or require that devices designed to meet previous criteria would need to be retested to meet the newly developed criteria. Instead, a new generation of devices would need to be developed to meet the newly adopted criteria. In the six years since the MASH was published, however, there have not been a significant number of MASH-tested devices developed and brought to market. As a result and to encourage the development and installation of MASH-compliant devices, FHWA and AASHTO agree it is time to begin the transition to requiring that new installations of roadway safety hardware comply with the MASH criteria.

Purpose of This Notice

The FHWA provides technical assistance to States by issuing Federal-aid eligibility letters for devices deemed crashworthy. The FHWA also makes determinations of continued eligibility for modified devices that have existing eligibility letters. The purpose of this notice is to seek the input of industry, State Departments of Transportation, and the broader highway community on the impact of FHWA no longer issuing eligibility letters after December 31, 2015, for modified NCHRP 350-tested devices that do not involve full scale crash testing to MASH. Modifications to NCHRP 350-tested devices that have, in the past, been based on engineering analysis or finite element modeling will no longer receive FHWA eligibility letters. Please provide any information that FHWA should be aware of regarding impacts of this change.

By taking this action, FHWA believes it will facilitate the implementation of MASH. Later this year, AASHTO is expected to take action regarding a schedule for requiring that new installations of roadway safety hardware comply with the MASH criteria.

Authority: 23 U.S.C. 148 and 315.

Issued on: May 13, 2015.
Gregory G. Nadeau,
Deputy Administrator, Federal Highway Administration.

[FR Doc. 2015-12021 Filed 5-18-15; 8:45 am]

BILLING CODE 4910-22-P